DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Wednesday, October 25, 2023, from 10 a.m. until 4:30 p.m., Eastern Time, and Thursday, October 26, 2023, from 10 a.m. until 4 p.m., Eastern Time. All sessions will be open to the public.

DATES: The meeting will be held on Wednesday, October 25, 2023, from 10 a.m. until 4:30 p.m., Eastern Time, and Thursday, October 26, 2023, from 10 a.m. until 4 p.m., Eastern Time.

ADDRESSES: The meeting will be held at JW Marriott Washington, DC, the Senate Room (Lobby Level), 1331 Pennsylvania Ave. NW, Washington, DC 20004. Please note admittance instructions under the Admittance Instructions section of this notice.

FOR FURTHER INFORMATION CONTACT: Jeff Brewer, Information Technology Laboratory, NIST, 100 Bureau Drive, Stop 8930, Gaithersburg, MD 20899-8930, Telephone: (301) 975-2489, Email address: jeffrey.brewer@nist.gov.

SUPPLEMENTARY INFORMATION: Pursuant to the Federal Advisory Committee Act, as amended, 5 U.S.C. 1001 et seq., notice is hereby given that the ISPAB will meet Wednesday, October 25, 2023, from 10 a.m. until 4:30 p.m., Eastern Time, and Thursday, October 26, 2023, from 10 a.m. until 4 p.m., Eastern Time. All sessions will be open to the public. The ISPAB is authorized by 15 U.S.C. 278g-4, as amended, and advises the National Institute of Standards and Technology (NIST), the Secretary of Homeland Security, and the Director of the Office of Management and Budget (OMB) on information security and privacy issues pertaining to Federal government information systems, including through review of proposed standards and guidelines developed by NIST. Details regarding the ISPAB's activities are available at https://csrc.nist.gov/projects/ispab.

The agenda is expected to include the following items:

—Board Introductions and Member Activities,

—Update from NIST's Information Technology Laboratory (ITL) Acting Director,

—Briefing from NIST on Strategic Objective 4.3.1 from the National Cybersecurity Strategy Implementation Plan on Preparing for our Quantum Future,

—Briefing from ONCD on Strategic Objective 4.1.2 from the National Cybersecurity Strategy Implementation Plan and the Comments Received from the Open Source and Memory Safe Language Request for Information,

—Presentation from NIST and FCC on Strategic Objective 3.2.2 from the National, Cybersecurity Strategy Implementation Plan on U.S. Government IoT Security Labeling,

—A Briefing from OSTP and Discussion on Federal Agency Priorities for Privacy,

—Public comments,

—Board Discussions and Recommendations.

Note that agenda items may change without notice. The final agenda will be posted on the ISPAB event page: https://csrc.nist.gov/Events/2023/ispab-october-meeting. Seating will be available for the public and media.

Public Participation: Written questions or comments from the public are invited and may be submitted electronically by email to Jeff Brewer at the contact information indicated in the FOR FURTHER INFORMATION CONTACT section of this notice by 5 p.m. on Tuesday, October 24, 2023.

The ISPAB agenda will include a period, not to exceed thirty minutes, for submitted questions or comments from the public between 3 p.m. and 3:30 p.m. on Wednesday, October 25, 2023. Submitted questions or comments from the public will be selected on a first-come, first-served basis and limited to five minutes per person.

Members of the public who wish to expand upon their submitted statements, those who had wished to submit a question or comment but could not be accommodated on the agenda, and those who were unable to attend the meeting are invited to submit written statements. In addition, written statements are invited and may be submitted to the ISPAB at any time. All written statements should be directed to the ISPAB Secretariat, Information Technology Laboratory by email to: jeffrey.brewer@nist.gov.

Admittance Instructions: No registration is required for this in-person only event.

Alicia Chambers,
NIST Executive Secretariat.

[FR Doc. 2023-22147 Filed 10-4-23; 8:45 am]

BILLING CODE 3510-13-P